DEPARTMENT OF LABOR

Employment and Training Administration

Investigations Regarding Certifications of Eligibility To Apply for Worker Adjustment Assistance and Alternative Trade Adjustment Assistance

Petitions have been filed with the Secretary of Labor under section 221 (a) of the Trade Act of 1974 (“the Act”) and are identified in the Appendix to this notice. Upon receipt of these petitions, the Director of the Division of Trade Adjustment Assistance, Employment and Training Administration, has instituted investigations pursuant to section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 5, 2008.

Interested persons are invited to submit written comments regarding the subject matter of the investigations to the Director, Division of Trade Adjustment Assistance, at the address shown below, not later than December 5, 2008.

The petitions filed in this case are available for inspection at the Office of the Director, Division of Trade Adjustment Assistance, Employment and Training Administration, U.S. Department of Labor, Room C-5311, 200 Constitution Avenue, NW., Washington, DC 20210.

Signed at Washington, DC, this 13th day of November 2008.
Linda G. Poole,
Certifying Officer, Division of Trade Adjustment Assistance.

Appendix

TAA Petitions Instituted Between 11/3/08 and 11/6/08
TA-W | Subject firm (petitioners) | Location | Date of institution | Date of petition
64325 | Yorozu Automotive Mississippi, Inc. (Comp) | Vicksburg, MS | 11/03/08 | 10/31/08
64326 | Archway Cookies, LLC (Wkrs) | Ashland, OH | 11/03/08 | 10/27/08
64327 | Jatco USA, Inc. (Comp) | Wixom, MI | 11/03/08 | 10/30/08
64328 | E. Toman and Company (Comp) | Lyons, IL | 11/03/08 | 10/27/08
64329 | Kronos (State) | Chelmsford, MA | 11/03/08 | 10/31/08
64330 | Triangle Springs (Wkrs) | DuBois, PA | 11/03/08 | 10/23/08
64331 | SUEZ Energy BioPower (Wkrs) | Forest City, NC | 11/03/08 | 10/30/08
64332 | Barnes Aerospace (State) | Windsor, CT | 11/03/08 | 10/31/08
64333 | TrimQuest (Comp) | Walker, MI | 11/03/08 | 10/31/08
64334 | Eaton Powerware (Wkrs) | Raleigh, NC | 11/03/08 | 10/31/08
64335 | Indiana Handle Co., Inc. (Comp) | Paoli, IN | 11/03/08 | 10/26/08
64336 | Husco International, Inc. (Union) | Waukesha, WI | 11/03/08 | 10/31/08
64337 | Moline Machinery, LLC (State) | Duluth, MN | 11/03/08 | 10/29/08
64338 | Pine Island Shortswear, Ltd. (Wkrs) | Monroe, NC | 11/03/08 | 10/29/08
64339 | Tenneco (UAW) | Napoleon, OH | 11/03/08 | 10/31/08
64340 | A B Carter, Inc. (Comp) | Gastonia, NC | 11/03/08 | 10/31/08
64341 | Brake Parts, Inc. (Comp) | Litchfield, IL | 11/03/08 | 10/31/08
64342 | Hyosung (America), Inc. (Comp) | Scottsburg, IN | 11/04/08 | 11/03/08
64343 | Lear Corporation (State) | Southfield, MI | 11/04/08 | 11/03/08
64344 | UCO Fabrics, Inc. (Comp) | Rockingham, NC | 11/04/08 | 11/03/08
64345 | Sunspring America (Wkrs) | Henderson, KY | 11/04/08 | 10/25/08
64346 | Casey Tool and Machine (State) | Charleston, IL | 11/04/08 | 11/03/08
64347 | Freudenberg Nonwovens (Wkrs) | Hopkinsville, KY | 11/04/08 | 10/27/08
64348 | Tetra Pak Gable Top Systems, Inc. (Comp) | Minneapolis, MN | 11/04/08 | 10/31/08
64349 | Wee Ones, Inc. (Wkrs) | Paris, MO | 11/05/08 | 10/30/08
64350 | Omega Motion (Comp) | Saltillo, MS | 11/05/08 | 11/03/08
64351 | Dura Automotive Systems, Inc. (Comp) | Hannibal, MO | 11/05/08 | 11/04/08
64352 | Maury City Plastics (Wkrs) | Maury City, IN | 11/05/08 | 10/16/08
64353 | Woodmark (Comp) | High Point, NC | 11/05/08 | 10/31/08
64354 | eInstruction/Maryland Manufacturing (Comp) | Columbia, MD | 11/05/08 | 11/04/08
64355 | VEM Trading, Inc. (Wkrs) | New York, NY | 11/05/08 | 11/03/08
64356 | Union Apparel, Inc. (Wkrs) | Norvelt, PA | 11/05/08 | 11/04/08
64357 | LeRocato Manufacturing, Inc. (State) | Plainfield, CT | 11/05/08 | 11/03/08
64358 | First American Title Insurance Company (State) | Roseville, CA | 11/05/08 | 11/04/08
64359 | Alcatel/Lucent (Rep) | Plano, TX | 11/05/08 | 11/03/08
64360 | MeadWestVaco Corporation (State) | Enfield, CT | 11/06/08 | 11/05/08
64361 | Hiley Poly Co., LLC (Wkrs) | Mount Olive, NC | 11/06/08 | 11/05/08
64362 | Lear Corporation (Wkrs) | Zanesville, OH | 11/06/08 | 10/30/08
64363 | Chrysler, LLC (Wkrs) | Kokomo, IN | 11/06/08 | 10/31/08
64364 | Glabman Himes, Inc. (Wkrs) | High Point, NC | 11/06/08 | 10/29/08
64365 | ElectroCraft New Hampshire (IUECWA) | Dover, NH | 11/06/08 | 11/05/08
64366 | Hewlett Packard (Wkrs) | San Diego, CA | 11/06/08 | 11/03/08
64367 | Suntex Industries, Inc. (Wkrs) | Glasgow, KY | 11/06/08 | 11/03/08
64368 | Newport Corporation (State) | Irvine, CA | 11/06/08 | 11/05/08
64369 | ABX Air (Wkrs) | Wilmington, OH | 11/06/08 | 10/24/08
64370 | Wausau Paper Specialty Products, LLC (USW) | Jay, ME | 11/06/08 | 11/04/08
64371 | SMI Bell Manufacturing (Wkrs) | Lewiston, ME | 11/06/08 | 11/03/08

[FR Doc. E8-27929 Filed 11-24-08; 8:45 am]

BILLING CODE 4510-FN-P